EXPORT-IMPORT BANK

[Public Notice: 2024-6096]

Agency Information Collection Activities: Submission to the Office of Management and Budget for Review and Approval; Comment Request; EIB 92-36 Application for Issuing Bank Credit Limit (IBCL) Under Lender or Exporter-Held Policies

AGENCY: Export-Import Bank of the United States.

ACTION: Notice of information collection; request for comment.

SUMMARY: The Export-Import Bank of the United States (EXIM), as part of its continuing effort to reduce paperwork and respondent burden, invites the general public and other Federal Agencies to comment on the proposed information collection, as required by the Paperwork Reduction Act of 1995.

DATES: Comments must be received on or before November 18, 2024, to be assured of consideration.

ADDRESSES: Comments may be submitted electronically on WWW.REGULATIONS.GOV (EIB 92-36) or by email edward.coppola@exim.gov, or by mail to Tara Pender, Export-Import Bank of the United States, 811 Vermont Ave. NW, Washington, DC 20571.

FOR FURTHER INFORMATION CONTACT: To request additional information, please contact Edward Coppola, Edward.coppola@exim.gov, 202-565-3717.

SUPPLEMENTARY INFORMATION: The application tool can be reviewed at: https://img.exim.gov/s3fs-public/pub/pending/EIB92-36_IBCL_Application_2024_FINAL_508.pdf.

Title and Form Number: EIB 92-36, Application for Issuing Bank Credit Limit (IBCL) Under Lender or Exporter-Held Policies.

OMB Number: 3048-0016.

Type of Review: Regular.

Need and Use: This form is used by an insured exporter or lender (or broker acting on its behalf) to obtain approval for coverage of the repayment risk of an overseas bank. The information received allows EXIM staff to make a determination of the creditworthiness of the foreign bank and the underlying export sale for EXIM assistance under its programs.

Affected Public: This form affects entities involved in the export of U.S. goods and services.

Annual Number of Respondents: 300.

Estimated Time per Respondent: 30 minutes.

Annual Burden Hours: 150.

Frequency of Reporting of Use: As needed.

Dated: September 13, 2024.
Andrew Smith,
Records Officer.

[FR Doc. 2024-21222 Filed 9-17-24; 8:45 am]

BILLING CODE 6690-01-P